DEPARTMENT OF ENERGY

Environmental Management Site-Specific Advisory Board, Hanford

AGENCY: Department of Energy.

ACTION: Notice of open meeting.

SUMMARY: This notice announces a meeting of the Environmental Management Site-Specific Advisory Board (EMSSAB), Hanford. The Federal Advisory Committee Act (Pub. L. 92-463, 86 Stat. 770) requires that public notice of this meeting be announced in the Federal Register.

DATES: Thursday, February 2, 2006, 9 a.m.-5 p.m.; Friday, February 3, 2006, 8:30 a.m.-4 p.m.

ADDRESSES: Red Lion Hotel, Columbia Center, 1101 North Columbia Center Boulevard, Kennewick, Washington 99336, Phone Number: (509) 783-0611.

FOR FURTHER INFORMATION CONTACT: Erik Olds, Federal Coordinator, Department of Energy Richland Operations Office, 2440 Stevens Drive, P.O. Box 450, H6-60, Richland, WA, 99352; Phone: (509) 376-8656; Fax: (509) 376-1214.

SUPPLEMENTARY INFORMATION: Purpose of the Board: The purpose of the Board is to make recommendations to DOE in the areas of environmental restoration, waste management, and related activities.

Tentative Agenda:

• Tutorial on Health and Worker Safety

• 2006 Hanford Advisory Board Priority Discussion

• Update on Bulk Vitrification

• Estimate at Completion Discussion on the Waste Treatment and Immobilization Plant

• Budget Prioritization and Allocations for Fiscal Years 2006, 2007 and 2008

• Emerging Issues from the River and Plateau Committee

Public Participation: The meeting is open to the public. Written statements may be filed with the Board either before or after the meeting. Individuals who wish to make oral statements pertaining to agenda items should contact Erik Olds' office at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: The minutes of this meeting will be available for public review and copying at the U.S. Department of Energy's Freedom of Information Public Reading Room, 1E-190, Forrestal Building, 1000 Independence Avenue, SW., Washington, DC 20585 between 9 a.m. and 4:00 p.m., Monday-Friday, except Federal holidays. Minutes will also be available by writing to Erik Olds' office at the address or telephone number listed above.

Issued at Washington, DC, on December 21, 2005.
Rachel M. Samuel,
Deputy Advisory Committee Management Officer.

[FR Doc. E5-7977 Filed 12-27-05; 8:45 am]

BILLING CODE 6450-01-P